ENVIRONMENTAL PROTECTION AGENCY

40 CFR Parts 174 and 180

[EPA-HQ-OPP-2019-0041; FRL-9998-15]

Receipt of a Pesticide Petition Filed for Residues of Pesticide Chemicals in or on Various Commodities (July 2019)

AGENCY: Environmental Protection Agency (EPA).

ACTION: Notice of filing of petition and request for comment.

SUMMARY: This document announces the Agency's receipt of an initial filing of a pesticide petition requesting the establishment or modification of regulations for residues of pesticide chemicals in or on various commodities.

DATES: Comments must be received on or before September 30, 2019.

ADDRESSES: Submit your comments, identified by docket identification (ID) number by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Michael Goodis, Registration Division (7505P), main telephone number: (703) 305-7090, email address: RDFRNotices@epa.gov; or Robert McNally, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of a pesticide petition filed under section 408 of the Federal Food, Drug, and Cosmetic Act (FFDCA), 21 U.S.C. 346a, requesting the establishment or modification of regulations in 40 CFR part 174 and part 180 for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

A. Amended Tolerance

1. PP 9E8746. (EPA-HQ-OPP-2019-0249). Interregional Research Project No. 4 (IR-4), IR-4 Project Headquarters, Rutgers, The State University of NJ, 500 College Road East, Suite 201 W, Princeton, NJ 08540, requests to amend 40 CFR 180.653 by removing the established tolerances of residues of the insecticide novaluron, including its metabolites and degradates, in or on the following commodities: Brassica, head and stem, subgroup 5A at 0.50 parts per million (ppm); brassica, leafy greens, subgroup 5B at 25 ppm; cotton, undelinted seed at 0.60 ppm; turnip, greens at 25 ppm; and vegetable, fruiting, group 8-10 at 1.0 ppm. Contact: RD.

B. New Tolerances for Non-Inerts

1. PP 8E8707. (EPA-HQ-OPP-2019-0385). BASF Corporation, P.O. Box 13528, Research Triangle Park, NC 27709, requests to establish tolerances in 40 CFR part 180 for residues of the insecticide, metaflumizone in or on imported apple at 1.0 ppm; apple, wet pomace at 3.0 ppm; coffee at 0.15 ppm, melon subgroup 9A at 1.0 ppm; fruit, small, vine climbing, except fuzzy kiwi fruit, subgroup 13-07F at 5.0 ppm; grape, raisin at 10 ppm, cattle, fat at 0.05 ppm; goat, fat at 0.05 ppm; horse, fat at 0.05 ppm; lemon/lime subgroup 10-10B at 3.0 ppm; lemon/lime subgroup 10-10B, oil at 42 ppm; milk fat at 0.1 ppm; orange subgroup 10-10A at 3.0 ppm; orange subgroup 10-10A, oil at 42 ppm; and sheep, fat at 0.05 ppm. The BASF Analytical method used is No. 531/1 was developed to determine residues of metaflumizone and its metabolites (M320I04 and M320I23) in crop matrices. In this method, residues of metaflumizone are extracted from plant matrices with methanol/water (70:30; v/v) and then partitioned into dichloromethane. The final determination of metaflumizone and its metabolites is performed by liquid chromatography with tandem mass spectrometry (LC/MS/MS). Contact: RD.

2. PP 8F8676. (EPA-HQ-OPP-2019-0413). ISK Biosciences Corporation, 7470 Auburn Road, Suite A., Concord, OH 44077, requests to establish a tolerance in 40 CFR part 180 for residues of the herbicide tiafenacil, including its metabolites and degradates, in or on the following raw agricultural commodities: Corn, which includes field corn and popcorn, at 0.01 ppm; cottonseed subgroup 20C, gin byproducts at 3.0 ppm; cottonseed subgroup 20C, undelinted seed at 0.5 ppm; grape at 0.01 ppm; grape, raisin at 0.01 ppm; soybean seed at 0.01 ppm; and wheat grain at 0.01 ppm. The practical analytical method Liquid Chromatography-MS/MS is used to measure and evaluate the chemical tiafenacil and its metabolites. Contact: RD.

3. PP 9E8745. (EPA-HQ-OPP-2019-0233). IR-4, IR-4 Project Headquarters, Rutgers, The State University of NJ, 500 College Road East, Suite 201 W, Princeton, NJ 08540, requests to amend 40 CFR part 180 by establishing tolerances for residues of 2,4-D in or on the raw agricultural commodity: Wheatgrass, intermediate, bran at 4.0 ppm; wheatgrass, intermediate, grain at 2.0 ppm; wheatgrass, intermediate, straw at 50 ppm; and to establish an inadvertent tolerance for sesame, seed at 0.1 ppm. An adequate gas chromatography/electron capture detector (GC/ECD) enforcement method for plants (designated as EN-CAS Method No. ENC-2/93) which has been independently validated. Adequate radiovalidation data have been submitted and evaluated for the enforcement method using samples from the wheat metabolism study. Contact: RD.

4. PP 9E8746. (EPA-HQ-OPP-2019-0249). IR-4, IR-4 Project Headquarters, Rutgers, The State University of NJ, 500 College Road East, Suite 201 W, Princeton, NJ 08540, requests to amend 40 CFR part 180.598 by establishing the tolerances for residues of the insecticide novaluron, including its metabolites and degradates, in or on the following commodities: Brassica, leafy greens, subgroup 4-16B at 25 ppm; cottonseed subgroup 20C at 0.6 ppm; kohlrabi at 0.7 ppm; sunflower subgroup 20B at 0.07 ppm; tropical and subtropical, small fruit, inedible peel, subgroup 24A at 9 ppm; vegetable, brassica, head and stem, group 5-16 at 0.7 ppm; vegetable, fruiting, group 8-10 at 1.5 ppm. An adequate analytical enforcement method, GC/ECD, and a high-performance liquid chromatography/ultraviolet method (HPLC/UV) for enforcing tolerances of novaluron residues in or on different matrices are available. Contact: RD.

5. PP 9E8756. (EPA-HQ-OPP-2019-0383). Tea Association of the USA, Inc. 362 5th Ave—Suite 1002 New York, NY 10001, requests to establish a tolerance in 40 CFR part 180 for residues of the insecticide hexythiazox, (trans-5-(4-chlorophenyl)-N-cyclohexyl-4-methyl-2-oxothiazolidine-3-carboxamide) in or on imported tea at 15 ppm. The high-performance liquid chromatography (HPLC) using mass spectrometric detection (LC-MS/MS) analytical method is used to measure and evaluate the residues of hexythiazox and its metabolites containing the (4-chlorophenyl)-4-methyl-2-oxo-3-thiazolidine moiety. Contact: RD.

6. PP 9E8768. (EPA-HQ-OPP-2019-0387). IR-4, IR-4 Project Headquarters, Rutgers, The State University of NJ, 500 College Road East, Suite 201 W, Princeton, NJ 08540, requests to amend 40 CFR part 180 by establishing a tolerance for residues of acequinocyl, 33-dodecyl-1,4-dihydro-1,4-dioxo-2-naphthyl acetate and its metabolite 2-dodecyl-3-hydroxy-1,4-naphthoquinone expressed as acequinocyl equivalents in or on the raw agricultural commodities bushberry subgroup 13-07B at 3 ppm. The analytical method to quantitate residues of acequinocyl and acequinocyl-OH in/on fruit crops utilizes HPLC using mass spectrometric (MS/MS) detection. The target limit of quantitation (LOQ) is 0.01 ppm. Contact: RD.

Authority: 21 U.S.C. 346a.

Dated: August 22, 2019.
Delores Barber,
Director, Information Technology and Resources Management Division, Office of Pesticide Programs.

[FR Doc. 2019-18834 Filed 8-29-19; 8:45 am]

BILLING CODE 6560-50-P